DEPARTMENT OF VETERANS AFFAIRS

[OMB Control No. 2900-NEW-ALS]

Proposed Information Collection Activity: Proposed Collection; Comment Request

AGENCY: Veterans Health Administration, Department of Veterans Affairs

ACTION: Notice

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each proposed new collection, and allow 60 days for public comment in response to the notice. This notice solicits comments for information needed to conduct a study of amyotrophic lateral sclerosis among Gulf War veterans.

DATES: Written comments and recommendations on the proposed collection of information should be received on or before July 17, 2001.

ADDRESSES: Submit written comments on the collection of information to Ann W. Bickoff, Veterans Health Administration (193B1), Department of Veterans Affairs, 810 Vermont Avenue, NW., Washington, DC 20420 or e-mail ann.bickoff@mail.va.gov. Please refer to “OMB Control No. 2900-NEW-ALS” in any correspondence.

FOR FURTHER INFORMATION CONTACT: Ann W. Bickoff (202) 273-8310 or FAX (202) 273-9381.

SUPPLEMENTARY INFORMATION: Under the PRA of 1995 (Pub. L. 104-13; 44 U.S.C., 3501-3520), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: A Study of Amoytrophic Lateral Sclerosis Among Gulf War Veterans.

OMB Control Number: 2900-NEW-ALS.

Type of Review: New collection.

Abstract: This study is designed to investigate the occurrence and to identify the causes of Amoytrophic Lateral Sclerosis (ALS) among Gulf War veterans. The study will further define the epidemiology of the neurological disease among veterans under the age of 45, and will determine whether there is a higher than expected occurrence. ALS is a rare disease in patients under the age of 45, which is the group of the majority of veterans on active duty during the Gulf War. The study will also ascertain the probable (possible) etiology of ALS. The result of the data collection will have importance for both the VA in achieving its mission to provide for the health of veterans and for the larger society in understanding ALS. The study will indicate whether veterans deployed to the Persian Gulf during the Gulf War are at elevated risk of ALS.

Affected Public: Individuals or households.

Estimated Annual Burden: 756 hours.

Estimated Average Burden Per Respondent: 6 hours.

Frequency of Response: Generally one time.

Estimated Number of Respondents: 126.

Dated: March 30, 2001.
By direction of the Secretary.
Barbara H. Epps,
Management Analyst, Information Management Service.

[FR Doc. 01-12526 Filed 5-17-01; 8:45 am]

BILLING CODE 8320-01-P